DEPARTMENT OF HOMELAND SECURITY

Federal Emergency Management Agency

[Docket ID FEMA-2015-0001]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: April 23, 2015.
Roy E. Wright,
Deputy Associate Administrator for Mitigation, Department of Homeland Security, Federal Emergency Management Agency.

State and county | Location and case No. | Chief executive officer of community | Community map repository | Effective date of modification | Community No.
Alabama:
Colbert (FEMA Docket No.: B-1460). | City of Muscle Shoals (14-04-8204P). | The Honorable David Bradford, Mayor, City of Muscle Shoals, P.O. Box 2624, Muscle Shoals, AL 35662. | City Hall, 2010 East Avalon Avenue, Muscle Shoals, AL 35661. | Feb. 2, 2015 | 01010047
Madison (FEMA Docket No.: B-1460). | Unincorporated areas of Madison County (14-04-7485P). | The Honorable Dale W. Strong, Chairman, Madison County Board of Commissioners, 100 Northside Square, Huntsville, AL 35801. | Madison County Public Works Department, 266-C Shields Road, Huntsville, AL 35811. | Feb. 19, 2015 | 010151
Shelby. (FEMA Docket No.: B-1454). | Unincorporated areas of Shelby County (14-04-4029P). | The Honorable Lindsey Allison, Chair, Shelby County Commission, 454 Valley View Drive, Pelham, AL 35124. | Shelby County Engineer's Office, 506 Highway 70, Columbiana, AL 35051. | Feb. 19, 2015 | 010191
Arizona:
Maricopa (FEMA Docket No.: B-1454). | City of Phoenix (14-04-2027P). | The Honorable Greg Stanton, Mayor, City of Phoenix, 200 West Washington Street, 11th Floor, Phoenix, AZ 85003. | Street Transportation Department, 200 Washington Street, 5th Floor, Phoenix, AZ 85003. | Jan. 29, 2015 | 040051
Santa Cruz (FEMA Docket No.: B-1454). | Unincorporated areas of Santa Cruz County (14-09-3102P). | The Honorable John Maynard, Chairman, Santa Cruz County Board of Supervisors, 2150 North Congress Drive, Nogales, AZ 85621. | Santa Cruz County Flood Control District, 2150 North Congress Drive, Nogales, AZ 85621. | Feb. 2, 2015 | 040090
California:
Los Angeles (FEMA Docket No.: B-1454). | City of Los Angeles (14-09-3226P). | The Honorable Eric Garcetti, Mayor, City of Los Angeles, 200 North Spring Street, Suite 303, Los Angeles, CA 90015. | Public Works Department, 1149 South Broadway, Suite 810, Los Angeles, CA 90015. | Feb. 9, 2015 | 060137
Mendocino (FEMA Docket No.: B-1454). | Unincorporated areas of Mendocino County (14-09-3500P). | The Honorable John Pinches, Chairman, Mendocino County Board of Supervisors, 501 Low Gap Road, Ukiah, CA 95482. | The Honorable John Pinches, Chairman, Mendocino County Board of Supervisors, 501 Low Gap Road, Ukiah, CA 95482. | Jan. 29, 2015 | 060183
Riverside (FEMA Docket No.: B-1454). | City of Jurupa Valley (14-09-3381P). | The Honorable Frank Johnston, Mayor, City of Jurupa Valley, 8304 Limonite Avenue, Suite M, Jurupa Valley, CA 92509. | City Hall, 8304 Limonite Avenue, Suite M, Jurupa Valley, CA 92509. | Feb. 9, 2015 | 060286
San Diego (FEMA Docket No.: B-1454). | Unincorporated areas of San Diego County, (14-09-3872P). | The Honorable Dianne Jacob, Chair, San Diego County Board of Supervisors, 1600 Pacific Highway, San Diego, CA 92101. | San Diego County Department of Public Works, Flood Control Division, 5510 Overland Avenue, Suite 410, San Diego, CA 92123. | Feb. 19, 2015 | 060284
Colorado:
Douglas (FEMA Docket No.: B-1454). | Town of Castle Rock (14-08-1036P). | The Honorable Paul Donahue, Mayor, Town of Castle Rock, 100 North Wilcox Street, Castle Rock, CO 80104. | Utilities Department, 175 Kellogg Court, Castle Rock, CO 80109. | Jan. 30, 2015 | 080050
Douglas (FEMA Docket No.: B-1454). | Unincorporated areas of Douglas County (14-08-1036P). | The Honorable Roger Partridge, Chairman, Douglas County Board of Commissioners, 100 3rd Street, Castle Rock, CO 80104. | The Honorable Roger Partridge, Chairman, Douglas County Board of Commissioners, 100 3rd Street, Castle Rock, CO 80104. | Jan. 30, 2015 | 080049
El Paso (FEMA Docket No.: B-1454). | City of Colorado Springs (14-08-0534P). | The Honorable Steve Bach, Mayor, City of Colorado Springs, 30 South Nevada Avenue, Colorado Springs, CO 80903. | City Administration, 30 South Nevada Avenue, Colorado Springs, CO 80903. | Jan. 29, 2015 | 080060
El Paso (FEMA Docket No.: B-1454). | Town of Monument (14-08-0567P). | The Honorable Rafael Dominguez, Mayor, Town of Monument, 645 Beacon Lite Road, Monument, CO 80132. | Town Hall, 645 Beacon Lite Road, Monument, CO 80132. | Feb. 19, 2015 | 080064
El Paso (FEMA Docket No.: B-1454). | Unincorporated areas of El Paso County (14-08-0534P). | The Honorable Dennis Hisey, Chairman, El Paso County Board of Commissioners, 200 South Cascade Avenue, Suite 100, Colorado Springs, CO 80903. | El Paso County Administrator, 2880 International Circle, Colorado Springs, CO 80910. | Jan. 29, 2015 | 080059
El Paso (FEMA Docket No.: B-1454). | Unincorporated areas of El Paso County (14-08-0567P). | The Honorable Dennis Hisey, Chairman, El Paso County Board of Commissioners, 200 South Cascade Avenue, Suite 100, Colorado Springs, CO 80903. | El Paso County Administrator, 2880 International Circle, Colorado Springs, CO 80910. | Feb. 19, 2015 | 080059
Florida:
Charlotte (FEMA Docket No.: B-1454). | Unincorporated areas of Charlotte County (14-04-7742P). | The Honorable Ken Doherty, Chairman, Charlotte County Board of Commissioners, 18500 Murdock Circle, Suite 536, Port Charlotte, FL 33948. | Charlotte County Community Development Department, 18500 Murdock Circle, Port Charlotte, FL 33948. | Jan. 29, 2015 | 120061
Lee (FEMA Docket No.: B-1464). | Unincorporated areas of Lee County (14-04-6406P). | The Honorable Larry Kiker, Chairman, Lee County Board of Commissioners, P.O. Box 398, Fort Myers, FL 33902. | Lee County Community Development Department, 1500 Monroe Street, Fort Myers, FL 33901. | Jan. 15, 2015 | 125124
Georgia:
Lee (FEMA Docket No.: B-1454). | Unincorporated areas of Lee County (14-04-0919P). | The Honorable Rick Muggridge, Chairman, Lee County Board of Commissioners, 110 Starkville Avenue North, Leesburg, GA 31763. | Lee County Courthouse, 104 Leslie Highway, Leesburg, GA 31763. | Feb. 19, 2015 | 130122
Worth (FEMA Docket No.: B-1454). | Unincorporated areas of Worth County (14-04-0919P). | The Honorable Mike Cosby, Chairman, Worth County Board of Commissioners, 201 North Main Street, Sylvester, GA 31791. | Worth County Courthouse, 201 North Main Street, Sylvester, GA 31791. | Feb. 19, 2015 | 130196
Hawaii:
Hawaii (FEMA Docket No.: B-1464). | Hawaii County (14-09-1104P). | The Honorable William P. Kenoi, Mayor, Hawaii County, 25 Aupuni Steet, Hilo, HI 96720. | Hawaii County Department of Public Works, 101 Pauahi Street, Suite 7, Hilo, HI 96720. | Jan. 26, 2015 | 155166
Hawaii (FEMA Docket No.: B-1454). | Hawaii County (14-09-2534P). | The Honorable William P. Kenoi, Mayor, Hawaii County, 25 Aupuni Steet, Hilo, HI 96720. | Hawaii County Department of Public Works, 101 Pauahi Street, Suite 7, Hilo, HI 96720. | Feb. 9, 2015 | 155166
Nevada:
Clark (FEMA Docket No.: B-1460). | City of Boulder City (14-09-1535P). | The Honorable Roger Tobler, Mayor, City of Boulder City, 401 California Avenue, Boulder City, NV 89005. | Engineering Department, 401 California Avenue, Boulder City, NV 89005. | Feb. 19, 2015 | 320004
Clark (FEMA Docket No.: B-1454). | City of Henderson (14-09-2535P). | The Honorable Andy A. Hafen, Mayor, City of Henderson, P.O. Box 95050, Henderson, NV 89009. | Public Works Department, 240 Water Street, Henderson, NV 89015. | Feb. 2, 2015 | 320005
Clark (FEMA Docket No.: B-1460). | Unincorporated areas of Clark County (14-09-2584P). | The Honorable Steve Sisolak, Chairman, Clark County Board of Commissioners, 500 South Grand Central Parkway, Las Vegas, NV 89155. | Clark County Public Works Department, 500 Grand Central Parkway, Las Vegas, NV 89155. | Feb. 19, 2015 | 320003
Elko (FEMA Docket No.: B-1454). | City of Elko (14-09-3720P). | The Honorable Chris J. Johnson, Mayor, City of Elko, 1751 College Avenue, Elko, NV 89801. | Engineering Department, 1751 College Avenue, Elko, NV 89801. | Feb. 5, 2015 | 320010
North Carolina:
Columbus (FEMA Docket No.: B-1464). | Unincorporated areas of Columbus County (14-04-2787P). | Mr. William S. Clark, Manager, Columbus County, 111 Washington Street, Whiteville, NC 28472. | Columbus County Building Inspections Office, 306 Jefferson Street, Whiteville, NC 28472. | Feb. 20, 2015 | 370305
Graham (FEMA Docket No.: B-1454). | Unincorporated areas of Graham County (14-04-1210P). | Mr. Greg Cable, Manager, Graham County, 12 North Main Street, Robbinsville, NC 28771. | Graham County Emergency Management Services Department, 70 West Fort Hill Road, Robbinsville, NC 28771. | Jan. 30, 2015 | 370105
Guilford (FEMA Docket No.: B-1442). | City of High Point (14-04-2188P). | The Honorable William Bencini, Jr., Mayor, City of High Point, 211 South Hamilton Street, High Point, NC 27260. | Engineering Services Department, 211 South Hamilton Street, High Point, NC 27260. | Nov. 27, 2014 | 370113
Mecklenburg (FEMA Docket No.: B-1464). | City of Charlotte (14-04-4804P). | The Honorable Daniel Clodfelter, Mayor, City of Charlotte, 600 East 4th Street, Charlotte, NC 28202. | Mecklenburg County Storm Water Services Division, 700 North Tyron Street, Charlotte, NC 28202. | Feb. 24, 2015 | 370159
Mecklenburg (FEMA Docket No.: B-1460). | City of Charlotte (14-04-8637P). | The Honorable Daniel Clodfelter, Mayor, City of Charlotte, 600 East 4th Street, Charlotte, NC 28202. | Mecklenburg County Storm Water Services Division, 700 North Tryon Street, Charlotte, NC 28202. | Feb. 19, 2015 | 370159
South Carolina:
Charleston (FEMA Docket No.: B-1454). | Town of Hollywood (14-04-2513P). | The Honorable Jacquelyn S. Heyward, Mayor, Town of Hollywood, P.O. Box 519, Hollywood, SC 29449. | Town Hall, 6316 Highway 162, Hollywood, SC 29449. | Feb. 2, 2015 | 450037
Charleston (FEMA Docket No.: B-1454). | Town of Ravenel (14-04-2514P). | The Honorable Opal N. Baldwin, Mayor, Town of Ravenel, 5962 Highway 165, Suite 100, Ravenel, SC 29470. | Town Hall, 5962 Highway 165, Suite 100, Ravenel, SC 29470. | Feb. 2, 2015 | 450043
Charleston (FEMA Docket No.: B-1454). | Unincorporated areas of Charleston County (14-04-2513P). | The Honorable Teddie E. Pryor, Sr., Chairman, Charleston County Council, 4045 Bridge View Drive, North Charleston, SC 29405. | Charleston County Building Inspection Services Department, 4045 Bridge View Drive, North Charleston, SC 29405. | Feb. 2, 2015 | 455413
Charleston (FEMA Docket No.: B-1454). | Unincorporated areas of Charleston County (14-04-2514P). | The Honorable Teddie E. Pryor, Sr., Chairman, Charleston County Council, 4045 Bridge View Drive, North Charleston, SC 29405. | Charleston County Building Inspection Services Department, 4045 Bridge View Drive, North Charleston, SC 29405. | Feb. 2, 2015 | 455413
Charleston (FEMA Docket No.: B-1454). | Unincorporated areas of Charleston County (14-04-3481P). | The Honorable Teddie E. Pryor, Sr., Chairman, Charleston County Council, 4045 Bridge View Drive, North Charleston, SC 29405. | Charleston County Building Inspection Services Department, 4045 Bridge View Drive, North Charleston, SC 29405. | Feb. 2, 2015 | 455413
Utah:
Davis (FEMA Docket No.: B-1454). | City of Kaysville (14-08-0888P). | The Honorable Steve A. Hiatt, Mayor, City of Kaysville, 23 East Center Street, Kaysville, UT 84037. | City Hall, 23 East Center Street, Kaysville, UT 84037. | Feb. 13, 2015 | 490046

[FR Doc. 2015-11973 Filed 5-15-15; 8:45 am]

BILLING CODE 9110-12-P